DEPARTMENT OF COMMERCE

United States Patent and Trademark Office

Agency Information Collection Activities; Submission to the Office of Management and Budget (OMB) for Review and Approval; Comment Request; Patent Examiner Employment Application

The United States Patent and Trademark Office (USPTO) will submit the following information collection request to the Office of Management and Budget (OMB) for review and clearance in accordance with the Paperwork Reduction Act of 1995, on or after the date of publication of this notice. The USPTO invites comment on this information collection renewal, which helps the USPTO assess the impact of its information collection requirements and minimize the public's reporting burden. Public comments were previously requested via the Federal Register on October 23, 2020 during a 60-day comment period. This notice allows for an additional 30 days for public comments.

Agency: United States Patent and Trademark Office, Department of Commerce.

Title: Patent Examiner Employment Application.

OMB Control Number: 0651-0042.

Forms: None.

Type of Request: Extension and revision of a currently approved information collection.

Number of Respondents: 8,386 respondents per year.

Average Hours per Response: The USPTO estimates that it will take the public approximately 30 minutes (0.5 hours) to complete the patent examiner application questions. This includes the time to gather the necessary information, respond to the system prompts, and submit the completed request to the USPTO.

Estimated Total Annual Respondent Burden Hours: 4,193 hours.

Estimated Total Annual Non-Hour Cost Burden: $0.

Needs and Uses: USPTO uses the Monster Hiring Management (MHM) system to rapidly review applications for employment of entry-level patent examiners. The use of such automated online systems during recruitment allows USPTO to remain competitive, meet hiring goals, and fulfill the Agency's Congressional commitment to reduce the pendency rate for the examination of patent applications. Given the time sensitive hiring needs of the Patent Examining Corps, the MHM system provides increased speed and accuracy during the employment process.

This information collection covers respondent data gathered through the MHM system. The MHM online application collects supplemental information to a candidate's USAJOBS application. This information assists USPTO Human Resource Specialists and Hiring Managers in determining whether an applicant possesses the basic qualification requirements for a patent examiner position. From the information collected, the MHM system creates an electronic real-time candidate inventory on applicants' expertise and technical knowledge, which allows USPTO to immediately review applications from multiple applicants.

Affected Public: Individuals or households.

Frequency: On occasion.

Respondent's Obligation: Required to obtain or retain benefits.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0042.

Further information can be obtained by:

• Email: InformationCollection@uspto.gov. Include “0651-0042 information request” in the subject line of the message.

• Mail: Kimberly Hardy, Office of the Chief Administrative Officer, United States Patent and Trademark Office, P.O. Box 1450, Alexandria, VA 22313-1450.

Kimberly Hardy,
Information Collections Officer, Office of the Chief Administrative Officer, United States Patent and Trademark Office.

[FR Doc. 2020-28869 Filed 12-29-20; 8:45 am]

BILLING CODE 3510-16-P